NUCLEAR REGULATORY COMMISSION

Sunshine Meeting Notice

AGENCY HOLDING THE MEETING: Nuclear Regulatory Commission

DATES: Weeks of April 17, 24, May 1, 8, 15, and 22, 2000

PLACE: Commissioners' Conference Room, 11555 Rockville Pike, Rockville, Maryland

STATUS: Public and Closed

MATTERS TO BE CONSIDERED:

Week of April 17

There are no meetings scheduled for the Week of April 17.

Week of April 24—Tentative

There are no meetings scheduled for the Week of April 24.

Week of May 1—Tentative

Tuesday, May 2

9:30 a.m. Briefing on Oconee License Removal (Public Meeting) (Contact: Dave Lange, 301-415-1730)

Wednesday, May 3

9:25 a.m. Affirmation Session (Public Meeting) (If needed)

9:30 a.m. Briefing on Efforts Regarding Release of Solid Material (Public Meeting) (Contact: Frank Cardile, 301-415-6185)

Week of May 8—Tentative

Monday, May 8

10:00 a.m. Briefing on Lessons Learned from the Nuclear Criticality Accident at Tokaimura and the Implications on the NRC's Program (Public Meeting) (Contact: Bill Troskoski, 301-415-8076)

Tuesday, May 9

8:55 Affirmation Session (Public Meeting) (If needed)

9:00 a.m. Meeting with Stakeholders on Efforts Regarding Release of Solid Material (Public Meeting) (Contact: Frank Cardile, 301-415-6185)

Week of May 15—Tentative

Tuesday, May 16

9:25 a.m. Affirmation Session (Public Meeting) (If needed)

Week of May 22—Tentative

Thursday, May 25

8:30 a.m. Briefing on Operating Reactors and Fuel Facilities (Public Meeting)

10:15 a.m. Briefing on Status of Regional Programs, Performance and Plans (Public Meeting)

1:30 p.m. Briefing on Improvements to 2.206 Process (Public Meeting)

*THE SCHEDULE FOR COMMISSION MEETINGS IS SUBJECT TO CHANGE ON SHORT NOTICE. TO VERIFY THE STATUS OF MEETINGS CALL (RECORDING)—(301) 415-1292. CONTACT PERSON FOR MORE INFORMATION: Bill Hill (301) 415-1661.

The NRC Commission Meeting Schedule can be found on the Internet at:

http://www.nrc.gov.SECY/smj/schedule.htm

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: April 16, 2000.
William M. Hill, Jr.,
SECY Tracking Officer, Office of the Secretary.

[FR Doc. 00-9907 Filed 4-17-00; 12:48 pm]

BILLING CODE 7590-01-M